DEPARTMENT OF THE INTERIOR

National Park Service

[NPS-WASO-NAGPRA-15677; PPWOCRADN0-PCU00RP14.R50000]

Notice of Inventory Completion: State Historical Society of Wisconsin, Madison, WI

AGENCY: National Park Service, Interior.

ACTION: Notice.

SUMMARY: The State Historical Society of Wisconsin has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the State Historical Society of Wisconsin. If no additional requestors come forward, transfer of control of the human remains to the Indian tribes or Native Hawaiian organizations stated in this notice may proceed.

DATES: Representatives of any Indian tribe or Native Hawaiian organization not identified in this notice that wish to request transfer of control of these human remains should submit a written request with information in support of the request to the State Historical Society of Wisconsin at the address in this notice by July 9, 2014.

ADDRESSES: Jennifer Kolb, Wisconsin Historical Museum, 30 North Carroll Street, Madison, WI 53703, telephone (608) 261-2461, email Jennifer.Kolb@wisconsinhistory.org.

SUPPLEMENTARY INFORMATION: Notice is here given in accordance with the Native American Graves Protection and Repatriation Act (NAGPRA), 25 U.S.C. 3003, of the completion of an inventory of human remains under the control of the State Historical Society of Wisconsin, Madison, WI. The human remains were removed from the Rich site, Columbia County, WI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the State Historical Society of Wisconsin professional staff in consultation with representatives of the Forest County Potawatomi Community, Wisconsin; Ho-Chunk Nation of Wisconsin; and the Menominee Indian Tribe of Wisconsin.

History and Description of the Remains

In 1932, human remains representing, at minimum, six individuals (F1996.17.1) were removed from the Rich site (47-CO-0175) in Columbia County, WI. The human remains were discovered on what was the H. Rich Farm on the southwest shore of Swan Lake near the town of Pacific. Two bundle burials were disturbed by plowing and brought to the State Historical Society by the landowner's son. The human remains were determined to be those of one child, three subadults, one young adult, and one adult, all of indeterminate sex. No known individuals were identified. No associated funerary objects are present.

Determinations Made by the State Historical Society of Wisconsin

Officials of the State Historical Society of Wisconsin have determined that:

• Pursuant to 25 U.S.C. 3001(9), the human remains described in this notice are Native American based on State Historical Society records, location and context of the burial, and skeletal analysis.

• Pursuant to 25 U.S.C. 3001(9), the human remains described in this notice represent the physical remains of six individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of Ho-Chunk Nation of Wisconsin and the Winnebago Tribe of Nebraska.

• Treaties, Acts of Congress, or Executive Orders, indicate that the land from which the Native American human remains were removed is the aboriginal land of the Ho-Chunk Nation of Wisconsin, Menominee Indian Tribe of Wisconsin, and the Winnebago Tribe of Nebraska.

• Pursuant to 43 CFR 10.11(c)(1), the disposition of the human remains may be to the Ho-Chunk Nation of Wisconsin, Menominee Indian Tribe of Wisconsin, and the Winnebago Tribe of Nebraska.

Additional Requestors and Disposition

Representatives of any Indian tribe or Native Hawaiian organization not identified in this notice that wish to request transfer of control of these human remains should submit a written request with information in support of the request to Jennifer Kolb, Wisconsin Historical Museum, 30 North Carroll Street, Madison, WI 53703, telephone (608) 261-2461, email Jennifer.Kolb@wisconsinhistory.org, by July 9, 2014. After that date, if no additional requestors have come forward, transfer of control of the human remains to the Ho-Chunk Nation of Wisconsin, Menominee Indian Tribe of Wisconsin, and the Winnebago Tribe of Nebraska may proceed.

The State Historical Society of Wisconsin is responsible for notifying the Ho-Chunk Nation of Wisconsin, Menominee Indian Tribe of Wisconsin, and the Winnebago Tribe of Nebraska that this notice has been published.

Dated: April 24, 2014.
David Tarler,
Acting Manager, National NAGPRA Program.

[FR Doc. 2014-13406 Filed 6-6-14; 8:45 am]

BILLING CODE 4312-50-P